DEPARTMENT OF TRANSPORTATION

National Highway Traffic Safety Administration

[NHTSA Docket No. NHTSA-2011-0037]

Meeting Notice Correction—Federal Interagency Committee on Emergency Medical Services; Correction to Meeting Notice To Clarify Time Zone

AGENCY: National Highway Traffic Safety Administration (NHTSA), DOT.

Title: Federal Interagency Committee on Emergency Medical Service (FICEMS) Teleconference Meeting.

ACTION: Meeting Notice Correction—Federal Interagency Committee on Emergency Medical Services; Correction to Meeting Notice to clarify time zone.

SUMMARY: NHTSA is issuing a correction to its announcement of a teleconference meeting of the Federal Interagency Committee on Emergency Medical Services (FICEMS) to be held as a stakeholder input call-in session to receive input regarding the current and future role of the Federal Government in EMS and options for establishing or designating a Federal lead office for EMS. This notice announces the date and time of the meeting and clarifies the time zone, which will be open to the public, as well as call-in information.

DATES: The meeting will be held on Monday, April 11, 2011, from 1:30 p.m. to 3 p.m., EDT.

FOR FURTHER INFORMATION CONTACT: Drew Dawson, Director, Office of Emergency Medical Services, National Highway Traffic Safety Administration, 1200 New Jersey Avenue SE., NTI-140, Washington, DC 20590, Telephone number (202) 366-9966; e-mail Drew.Dawson@dot.gov.

SUPPLEMENTARY INFORMATION: The Federal Interagency Committee on Emergency Medical Services (FICEMS) was created by law to help ensure coordination among Federal agencies involved with State, local, tribal, or regional emergency medical services and 9-1-1 systems. As discussed at their December 16, 2010 meeting, FICEMS is assessing the current and future role of the Federal Government in EMS and evaluating the options for establishing or designating a Federal lead office or agency for EMS. The National Security Staff Resilience Directorate has requested that FICEMS engage with stakeholders and develop an options paper by May 15, 2011.

FICEMS is interested in any stakeholder input about the role of the Federal Government in the full continuum of emergency medical services and emergency and trauma care for adults and children—including medical 9-1-1 and emergency medical dispatch, prehospital emergency medical services (both ground and air), hospital-based emergency care and trauma care, and medical-related disaster preparedness.

With respect to this full continuum of emergency medical services and emergency and trauma care for adults and children any stakeholder input would be appreciated regarding topics such as:

○ The role of the Federal Government.

○ Activities or functions that should NOT be the role of Federal Government.

○ The role of a Federal lead office for EMS if it were established including the functions/issues it should perform and address.

○ Other comments or suggestions.

This meeting of the FICEMS will focus specifically on receiving input from Stakeholders on the above issues. The meeting will be open to the public via telephone.

Call-In Information: Members of the public wishing to attend the meeting or provide input to FICEMS should call 1-877-804-0827 using the meeting ID number 51813069, on Monday, April 11, 2011, from 1:30 p.m. to 3 p.m., EDT.

Minutes of the FICEMS meeting will be available to the public online at http://www.ems.gov.

Issued on: March 24, 2011.
Drew E. Dawson,
Director, Office of Emergency Medical Services.

[FR Doc. 2011-7305 Filed 3-28-11; 8:45 am]

BILLING CODE 4910-59-P